NATIONAL SCIENCE FOUNDATION

Sunshine Act Meeting

Agency Holding Meeting: National Science Foundation, National Science Board and its Subdivisions.

Date and Time: February 5, 2004: 10:30 a.m.-4 p.m.

10:15-11:15 Open Session.

11:15-12:15 Open Session.

12:15-12:30 Open Session.

12:45-1:15 Open Session.

1-1:15 Closed Session.

1:15-1:30 Closed Session.

1:30-4 Open Session.

Place: Xavier University of Louisiana, University Library, 1 Drexel Drive, New Orleans, LA 70125, www.nsf.gov/nsb.

FOR FURTHER INFORMATION CONTACT: Michael P. Crosby, Executive Officer, (703) 292-7000.

Status: Part of this meeting will be closed to the public.

Part of this meeting will be open to the public.

Matters to be Considered:

Thursday, February 5, 2004

Open

Committee on Education & Human Resources (10:15 a.m.-11:15 a.m.), Board Room.

• Minutes

• Comments from Chair

• Response to Broadening Participation Workshop Report

• Briefing on NSF Programs that Address Minority-Serving Institutions

Committee on Programs & Plans (11:15 a.m.-12:15 p.m.), Board Room.

• High Risk Research

• Long-Lived Data Collections

• NRC Report on Setting Priorities for NSF-Sponsored Large Research Facility Projects

Committee on Strategy and Budget (12:15 p.m.-12:30 p.m.), Board Room.

• Approval of Minutes and Chair's Remarks

• Update on the Authorization Act Section 22 Report to Congress

• Committee Members' Suggestions for CSB Activities in 2004

Executive Committee (12:45 p.m.-1 p.m.), IT Room.

• Approval of Minutes

Plenary Session of the Board (1:30 p.m.-4 p.m.), Board Room.

• Open Minutes

• Resolution to Close March 2004

• Chairman's Report, including

• Awards & Nominations Committee Appointments

• Director's Report, including

• Overview of NSF FY 2005 Budget

• Committee Reports, including

• Update on S&E Indicators 2004

• Update on Realizing America's Potential

• Long-Lived Data Collections

• High Risk Research

• Discussion of NRC Report on MREFC Priorities

• Discussion of NAPA Report on NSF Organization & Structure

• Presentation to the Board

• NSF Funding of Smithsonian & Other Federal Researchers

Closed

Executive Committee (1 p.m.-1:15 p.m.), IT Room.

• Director's Items, including

• Specific Personnel Matters

• Future Budgets

Plenary Session of the Board (1:15 p.m.-1:30 p.m.), Board Room.

• Closed Minutes

• Reports of Closed Committees, If Any

• Staff Announcements

Michael P. Crosby,
Executive Officer, NSB.

[FR Doc. 04-1896 Filed 1-26-04; 9:33 am]

BILLING CODE 7555-01-P